DEPARTMENT OF ENERGY

Federal Energy Regulatory Commission

[Project No. 12613-007]

Tygart LLC; Notice of Intent To Prepare an Environmental Assessment

On December 26, 2024, Tygart LLC filed an application to amend the license for the Tygart Hydroelectric Project No. 12613. The unconstructed project will be located at the U.S. Army Corps of Engineers' (Corps) Tygart Dam on the Tygart River in Taylor County, West Virginia. The project will occupy federal lands managed by the Corps.

The licensee proposes the following design modifications to the unconstructed project: (1) reconfiguration of the project intake to include a fish exclusion net; (2) reconfiguration of the turbine units to include three vertical Kaplan turbines; and (3) reconfiguration of the powerhouse and penstock to accommodate modified turbine design. The proposed changes would not result in any changes to installed or hydraulic capacity of the project. On October 2, 2025, Commission staff issued a Notice of Application for Non-Capacity License Amendment Accepted for Filing, and Soliciting Comments, Motions to Intervene and Protests. No comments, motions to intervene, or protests were received in response to the Commission's notice.

This notice identifies Commission staff's intention to prepare an environmental assessment (EA) under the National Environmental Policy Act (42 U.S.C. 4321 et seq.) for the project.¹ Commission staff plans to issue an EA by January 9, 2026. Revisions to the schedule may be made as appropriate. The EA will be issued for a 30-day comment period. All comments filed on the EA will be reviewed by staff and considered in the Commission's final decision on the proceeding.

¹ The unique identification number for documents relating to this environmental review is EAXX-019-20-000-1761560256.

For public inquiries and assistance with making filings such as interventions, comments, or requests for rehearing, contact the Office of Public Participation at (202) 502-6595 or OPP@ferc.gov.

Any questions regarding this notice may be directed to Elizabeth Moats at 202-502-6632 or Elizabeth.OsierMoats@ferc.gov.

(Authority: 18 CFR 2.1)

Dated: December 5, 2025.
Debbie-Anne A. Reese,
Secretary.

[FR Doc. 2025-22451 Filed 12-9-25; 8:45 am]

BILLING CODE 6717-01-P